NUCLEAR REGULATORY COMMISSION

[Docket No. 72-17]

Portland General Electric; Trojan Independent Spent Fuel Storage Installation; Issuance of Environmental Assessment and Finding of No Significant Impact Regarding a License Amendment

AGENCY: Nuclear Regulatory Commission.

ACTION: Issuance of Environmental Assessment and Finding of No Significant Impact.

FOR FURTHER INFORMATION CONTACT: Jill S. Caverly, Project Manager, Spent Fuel Project Office, Office of Nuclear Material Safety and Safeguards, U.S. Nuclear Regulatory Commission, Washington, DC 20555. Telephone: (301) 415-6699; Fax number: (301) 415-8555; E-mail: jsc1@nrc.gov.

Introduction

The U.S. Nuclear Regulatory Commission (NRC, or the staff) is considering issuance of a license amendment to the Portland General Electric Company (PGE, or the licensee) for Special Nuclear Materials License SNM-2509. An Environmental Assessment was issued at the time of the application for the license and a determination of a Finding of No Significant Impact was finalized on November 11, 1996. The current amendment request was submitted to the NRC under letter dated May 23, 2005, [ADAMS Accession Number ML051460408]. The request is in accordance with 10 Code of Federal Regulations (CFR) 72.48(c)(2) and 10 CFR 72.56 for a license amendment that would approve a change that would result in a departure from a method of evaluation described in the Trojan Independent Spent Fuel Storage Installation (ISFSI) Safety Analysis Report (SAR). An ISFSI is defined in 10 CFR part 72 as “a complex designed and constructed for the interim storage of spent nuclear fuel, solid reactor related waste * * * and other radioactive materials associated with spent fuel. * * *” The result of the amendment would be revised methodology used to determine the controlled area boundary for the ISFSI, which would reduce the controlled area (controlled area as defined in 10 CFR part 20) from 300 meters from the edge of the concrete storage pad to 200 meters from the edge of the pad.

Environmental Assessment (EA)

I. Identification of Proposed Action

The Trojan ISFSI is located at PGE's former Trojan Nuclear Plant near Rainier, Oregon. The proposed action before the NRC is the approval of methodology for determining the controlled area at the ISFSI that will result in moving the boundary of the controlled area. PGE has requested a license amendment in accordance with 10 CFR 72.48(c)(2) and 10 CFR 72.56 to revise the method of evaluation used in the SAR for determining the controlled area of the Trojan ISFSI. The current Trojan ISFSI Controlled Area boundary was established at 300 meters based on the results of the Trojan ISFSI shielding and confinement analyses and the requirements of 10 CFR 72.104 and 72.106. The current shielding analysis was performed prior to loading the ISFSI storage casks to conservatively predict dose rates. For the proposed license amendment, PGE revised the shielding calculation to include actual direct radiation measurements. The revised calculations show that the requirements of 10 CFR part 72 are met if the controlled area is reduced from 300 meters from the edge of the pad to 200 meters to the edge of the pad. The proposed action will not require any physical changes to fences or construction at the site but will relocate dosimeters to 200 meters from the edge of the pad.

II. Need for the Proposed Action

PGE is seeking this reduction of the Trojan ISFSI Controlled Area primarily to facilitate the efficient long-term management and security of the spent nuclear fuel and fuel-related materials stored in the ISFSI. This change would eliminate the Trojan ISFSI's program and procedural requirements for access controls on site areas for which such controls are not necessary or warranted to ensure the protection of the health and safety of the public and the environment. PGE has completed decommissioning of the adjoining 10 CFR part 50 site and seeks to consolidate the remaining area of its responsibility. The area between the current and revised controlled area has been analyzed for contamination under the Trojan Nuclear Plant's decommissioning program. A final radiologic survey will be required at the time of ISFSI decommissioning.

III. Environmental Impacts of the Proposed Action

The staff has determined that although the proposed action will result in a reduction in the current controlled area boundary, the ISFSI will continue to meet the requirements of 10 CFR part 72. The proposed action does not involve a significant increase in the probability or consequences of an event or accident previously evaluated nor does it create a possibility of a new or different kind of event. The staff concludes that there is reasonable assurance that the proposed changes in the methodology will have no impact on off-site radiation doses. Additionally, the staff has determined that there would be no impacts to the environment from the proposed action.

IV. Alternative to the Proposed Action

As an alternative to the proposed action, the staff considered denial of the amendment request (i.e., the “no-action” alternative). Thus, the no action alternative would leave the current controlled area boundary in place at 300 meters from the edge of the concrete storage pad. No environmental impacts would result from the no action alternative.

V. Agencies and Persons Consulted

The NRC staff prepared this environmental assessment (EA). The U.S. Fish and Wildlife Service's Threatened and Endangered Species System was consulted and reviewed as well the species analysis in the EA conducted for the original ISFSI license (November 1996). Based on the very limited activity of moving dosimeters and the staff's overall analysis, involvement of the human environment is minimal for this proposed action and essentially the same as the current environmental conditions. Hence, this action does not warrant consultation for further input and analysis under section 7 of the Endangered Species Act or section 106 of the National Historic Preservation Act.

VI. Conclusions

The staff analysis of the PGE proposed amendment concludes that issuing the amendment to allow for a revised methodology to calculate the boundary of the controlled area in the SAR will not result in significant environmental consequences. Hence, the staff recommends a Finding of No Significant Impact.

VII. Sources

NRC, Environmental Assessment dated November 1996.

PGE, application dated May 23, 2005.

PGE, Safety Analysis Report, Rev 6., dated July 21, 2005.

U.S. Fish and Wildlife Service, Threatened and Endangered Species System (http://www.fws.gov).

Finding of No Significant Impact

The environmental impacts of the proposed action have been reviewed in accordance with the requirements set forth in 10 CFR part 51. Based upon the foregoing EA, the NRC finds that the proposed action of approving the amendment to the license will not significantly impact the quality of the human environment. Accordingly, the NRC has determined that an environmental impact statement for the proposed amendment is not warranted.

Further Information

In accordance with 10 CFR 2.390 of NRC's “Rules of Practice,” final NRC records and documents regarding this proposed action, including the amendment request dated May 23, 2005, are publicly available in the records component of NRC's Agencywide Documents Access and Management System (ADAMS). These documents may be inspected at NRC's Public Electronic Reading Room at http://www.nrc.gov/reading-rm/adams.html. These documents may also be viewed electronically on the public computers located at the NRC's Public Document Room (PDR), O1F21, One White Flint North, 11555 Rockville Pike, Rockville, MD 20852. The PDR reproduction contractor will copy documents for a fee. Persons who do not have access to ADAMS or who encounter problems in accessing the documents located in ADAMS, should contact the NRC PDR Reference staff by telephone at 1-800-397-4209 or (301) 415-4737, or by e-mail to pdr@nrc.gov.

Dated at Rockville, Maryland, this 6th day of March 2006.
For the Nuclear Regulatory Commission.
Jill Caverly,
Project Manager, Licensing Section, Spent Fuel Project Office, Office of Nuclear Material Safety and Safeguards.

[FR Doc. E6-3714 Filed 3-14-06; 8:45 am]

BILLING CODE 7590-01-P